DEPARTMENT OF HEALTH AND HUMAN SERVICES

National Institutes of Health

National Human Genome Research Institute; Amended Notice of Meeting

Notice is hereby given of a change in the meeting of the National Advisory Council for Human Genome Research, September 19, 2022, 09:00 a.m. to September 20, 2022, 04:00 p.m., NHGRI, 6700B Rockledge Drive, Bethesda, MD 20892 which was published in the Federal Register on August 12, 2022, 87 FR 49873.

This notice is being amended to remove the visitor testing requirement for entering NIH facilities due to CDC updates published August 11, 2022, regarding screening testing. The meeting is partially Closed to the public.

Dated: August 31, 2022.
Miguelina Perez,
Program Analyst, Office of Federal Advisory Committee Policy.

[FR Doc. 2022-19212 Filed 9-6-22; 8:45 am]

BILLING CODE 4140-01-P